DEPARTMENT OF ENERGY

Federal Energy Regulatory Commission

[Docket No. EC01-123-000, et al.]

Duke Energy Vermillion, LLC, et al.; Electric Rate and Corporate Regulation Filings

July 5, 2001.

Take notice that the following filings have been made with the Commission:

1. Duke Energy Vermillion, LLC, Duke Energy Madison, LLC, CinCap VII, LLC, Duke Energy Trenton, LLC, CinCap VIII, LLC

[Docket No. EC01-123-000]

Take notice that on June 28, 2001, Duke Energy Vermillion, LLC (Duke Vermillion), Duke Energy Madison, LLC (Duke Madison), CinCap VII, LLC (CinCap VII), Duke Energy Trenton, LLC (Duke Trenton) and CinCap VIII, LLC (CinCap VIII) (the Applicants) filed with the Federal Energy Regulatory Commission (Commission) an application pursuant to Section 203 of the Federal Power Act (FPA) for authorization of the transfer of Duke Energy North America, LLC's (DENA) indirect interests in Duke Madison and CinCap VII to CinCap VIII and the transfer of Cinergy Corporation's (Cinergy) indirect interest in Duke Vermillion to Duke Trenton. The transfer may constitute the indirect disposition of FPA jurisdictional facilities associated with the facilities owned by Duke Vermillion, Duke Madison and CinCap VII (e.g., market-based rate schedules of Duke Vermillion, Duke Madison and CinCap VII and the sales agreements entered into thereunder, limited transmission interconnection facilities and jurisdictional books and records).

Comment date: August 27, 2001, in accordance with Standard Paragraph E at the end of this notice.

2. Arizona Public Service Company, PacifiCorp

[Docket No. EC01-125-000]

Take notice that on June 28, 2001, Arizona Public Service Company (APS) and PacifiCorp tendered for filing a joint application for authorization for APS to transfer to PacifiCorp a 10.4 mile segment of transmission line located in Arizona, which line is a segment of a longer single-circuit 230 kV transmission line located in both Arizona and Utah. The subject facility runs from the switchyard at Glen Canyon Dam in Coconino County, which is owned and operated by the United States Bureau of Reclamation, to the Arizona-Utah border. The 230 kV transmission line continues on to PacifiCorp's Sigurd Substation.

Comment date: July 19, 2001, in accordance with Standard Paragraph E at the end of this notice.

3. Tri-State Power, LLC

[Docket No. EG01-252-000]

Take notice that on July 2, 2001, Tri-State Power, LLC (TSP) filed with the Federal Energy Regulatory Commission an application for determination of exempt wholesale generator status pursuant to Part 365 of the Commission's regulations.

TSP is a Colorado limited liability company. The Eligible Facilities are two electric generating stations located near Limon, Colorado and Brighton, Colorado. Each station consists of two gas-fired combustion turbines with a nominal rating of 70 MW each and associated step-up transformers, circuit breakers and related equipment.

Comment date: July 26, 2001, in accordance with Standard Paragraph E at the end of this notice. The Commission will limit its consideration of comments to those that concern the adequacy or accuracy of the application.

4. PSEG Fossil LLC, PSEG Nuclear LLC and PSEG Energy Resources & Trade LLC

[Docket No. ER01-2462-000]

Take notice that on June 26, 2001, PSEG Fossil LLC (PSEF Fossil), PSEG Nuclear LLC (PSEG Nuclear), and PSEG Energy Resources & Trade LLD (ER&T) (collectively the Applicants) filed with the Federal Energy Regulatory Commission (Commission) a Joint Application for Waiver of Filing Requirements relating to requirements contained in Parts 35, 41, 45, 101 and 141 of the Commission's regulations.

Comment date: July 20, 2001, in accordance with Standard Paragraph E at the end of this notice.

5. Central Hudson Gas & Electric Corporation, Consolidated Edison Company of New York, Inc., Long Island Lighting Company, New York State Electric & Gas Corporation, Niagara Mohawk Power Corporation; Orange & Rockland and Utilities, Inc.; Power Authority of the State of New York; and Rochester Gas and Electric Corporation, New York Power Pool

[Docket Nos. ER97-1523-064, OA97-470-059 and ER97-4234-057]

Take notice that on June 29, 2001, Niagara Mohawk Power Corporation (Niagara Mohawk) made a compliance filing consisting of an Amended and Restated Transmission Agreement with the Power Authority of the State of New York in conformance with the Commission's Letter Order in these proceedings dated May 30, 2001.

Comment date: July 20, 2001, in accordance with Standard Paragraph E at the end of this notice.

6. PJM Interconnection, L.L.C.

[Docket No. ER01-2473-000]

Take notice that on June 29, 2001, PJM Interconnection, L.L.C. (PJM), filed amendments to the PJM Open Access Transmission Tariff and the Amended and Restated Operating Agreement of PJM Interconnection, L.L.C. to revise PJM's authority to cost cap “must-run” generators to enable PJM to cost cap such units on a real-time as well as day-ahead basis.

Copies of this filing were served upon all PJM members and each state electric utility regulatory commission in the PJM control area.

Comment date: July 20, 2001, in accordance with Standard Paragraph E at the end of this notice.

7. New England Power Pool

[Docket No. ER01-2474-000]

Take notice that on June 29, 2000, the New England Power Pool (NEPOOL) Participants Committee tendered for filing with the Federal Energy Regulatory Commission (Commission) a Service Agreement for Long-Term Firm Out Service pursuant to Section 205 of the Federal Power Act and 18 CFR 35.12 of the Commission's regulations. Acceptance of this Service Agreement will recognize the provision of Long-Term Firm Out Service to Williams Energy Marketing & Trading Co., in accordance with the provisions of the NEPOOL Open Access Transmission Tariff, as amended and supplemented.

An effective date of July 1, 2001 for commencement of transmission service has been requested.

Copies of this filing were sent to the NEPOOL Participants, the New England state governors and regulatory commissions, and all parties to the transaction.

Comment date: July 20, 2001, in accordance with Standard Paragraph E at the end of this notice.

8. MidAmerican Energy Company LLC

[Docket No. ER01-2475-000]

Take notice that on June 29, 2001, MidAmerican Energy Company LLC (MidAmerican) tendered for filing with the Federal Energy Regulatory Commission (Commission) under its market-based rate tariff a long-term service agreement, the Service Agreement between MidAmericanEnergy Company and Principal Generation Plant, LLC Under Producers.

MidAmerican requests an effective date of May 31, 2001.

Comment date: July 20, 2001, in accordance with Standard Paragraph E at the end of this notice.

9. Southwest Power Pool, Inc.

[Docket No. ER01-2476-000]

Take notice that on June 29, 2001, Southwest Power Pool, Inc. (SPP) submitted for filing two executed service agreements for Firm Point-to-Point Transmission Service with Tenaska Power Service Company (Transmission Customer), designated as SPP Service Agreement Nos. 554 and 555.

SPP seeks an effective date of June 1, 2001 for Service Agreement No. 554, and January 1, 2002, for Service Agreement No. 555.

A copy of this filing was served on the Transmission Customer.

Comment date: July 20, 2001, in accordance with Standard Paragraph E at the end of this notice.

10. Florida Power Corporation

[Docket No. ER01-2477-000]

Take notice that on June 29, 2001, Florida Power Corporation (FPC) filed an executed Transmission Service System Impact Study Agreement (Agreement) with El Paso Merchant Energy, L.P. (El Paso) under FPC's open access transmission tariff, FERC Electric Tariff, Second Revised Volume No. 6. FPC files this Agreement in conjunction with the joint transmission system impact study process that FPC, Florida Power & Light Company and Tampa Electric Company have agreed to undertake to handle the pending transmission service requests that impact these three utility systems.

FPC requests this Agreement to become effective on May 31, 2001.

A copy of the filing was served on El Paso.

Comment date: July 20, 2001, in accordance with Standard Paragraph E at the end of this notice.

11. Southern Indiana Gas & Electric Company

[Docket No. ER01-2478-000]

Take notice that on June 29, 2001, Southern Indiana Gas & Electric Company (SIGECO) tendered for filing a Service Agreement for Network Integration Transmission Service (Service Agreement) and a Network Operating Agreement (NOA) for the City of Huntingburg, Indiana. The Service Agreement and the NOA are being filed under SIGECO's FERC Electric Tariff, Second Revised Volume No. 3.

SIGECO requests that the Commission allow the Service Agreement and the NOA to become effective on June 1, 2001.

Copies of the filing were served upon the Indiana Utility Regulatory Commission and the City of Huntingburg, Indiana.

Comment date: July 20, 2001, in accordance with Standard Paragraph E at the end of this notice.

12. Mirant Zeeland, LLC

[Docket No. ER01-2479-000]

Take notice that on June 29, 2001, Mirant Zeeland, LLC (Mirant Zeeland) filed with the Federal Energy Regulatory Commission (Commission) filed a Tolling Agreement dated as of May 3, 2000, between SEI Michigan, LLC, (now Mirant Zeeland, LLC) and Southern Company Energy Marketing LP (now Mirant Americas Energy Marketing, LP).

Comment date: July 20, 2001, in accordance with Standard Paragraph E at the end of this notice.

13. Tampa Electric Company

[Docket No. ER01-1895-001]

Take notice that on June 29, 2001, Tampa Electric Company (Tampa Electric) refiled its open access transmission tariff (OATT) in the format required by the Commission's Order No. 614. The filing was made in compliance with the Commission's letter order dated May 30, 2001, in Docket No. ER01-1895-000. Except for the updated transmission loss factor accepted in that letter order, the filing does not change the text of the preexisting OATT.

A copy of the compliance filing has been served on each person designated on the official service list in this docket, each party to a service agreement under the preexisting OATT, and the Florida Public Service Commission.

Comment date: July 20, 2001, in accordance with Standard Paragraph E at the end of this notice.

14. Valley Electric Association, Inc.

[Docket No. ER01-1229-002]

Take notice that on June 29, 2001, Valley Electric Association, Inc. tendered for filing a corrected tariff sheet and other information in compliance with the Commission's June 14, 2001 order in the above-captioned proceeding.

Comment date: July 20, 2001, in accordance with Standard Paragraph E at the end of this notice.

15. Valley Electric Association, Inc.

[Docket No. ER01-2455-000]

Take notice that on June 29, 2001, Valley Electric Association, Inc. tendered for filing a notice of cancellation with respect to its Rate Schedule FERC No. 15.

Valley Electric Association request notice of cancellation be effective July 2, 2001.

Comment date: July 20, 2001, in accordance with Standard Paragraph E at the end of this notice.

16. California Independent System Operator Corporation

[Docket No. ER01-2457-000]

Take notice that the California Independent System Operator Corporation (ISO), on June 29, 2001, submitted an informational filing as to the new transmission Access Charge rates that will be in effect on July 1, 2001.

The ISO states that this filing has been served the Public Utilities Commission of California, the California Energy Commission, the California Electricity Oversight Board, and all parties, including Vernon, with effective Scheduling Coordinator Agreements under the ISO Tariff.

Comment date: July 20, 2001, in accordance with Standard Paragraph E at the end of this notice.

17. San Diego Gas & Electric Company

[Docket No. ER01-2458-000]

Take notice that on June 29, 2001, San Diego Gas & Electric Company (SDG&E) tendered for filing as Service Agreement number 1 to its FERC Electric Tariff, First Revised Volume No. 7. Service Agreement No. 1 relates to the sale of electric power at wholesale to the California Department of Water Resources (Department) at prices agreed to by SDG&E and Department in accordance with SDG&E's FERC Electric Tariff, First Revised Volume No. 7. SDG&E states that copies of the filing have been served on Department and on the California Public Utilities Commission.

SDG&E requests an effective date of June 1, 2001 for the agreement.

Comment date: July 20, 2001, in accordance with Standard Paragraph E at the end of this notice.

18. Ameren Energy Marketing Company

[Docket No. ER01-1810-002]

Take notice that on June 29, 2001, Ameren Energy Marketing Company (AEM) submitted the compliance filing required by the Commission's June 14, 2001 order in this proceeding. AEM requests an effective date of June 1, 2001 for the changes reflected in this filing. A copy of this filing was served on all parties on the service list, and on all affected state commissions.

Comment date: July 20, 2001, in accordance with Standard Paragraph E at the end of this notice.

19. Walton Electric Membership Corporation

[Docket No. ER01-1400-002]

Take notice that on June 29, 2001, Walton Electric Membership Corporation (Walton) tendered for filing Schedules D and 4.4 of the Power Supply and Energy Call Agreement by and between Williams Energy Marketing & Trading Company and Walton as requested by Commission Staff.

Comment date: July 20, 2001, in accordance with Standard Paragraph E at the end of this notice.

20. Southern Company Services, Inc.

[Docket No. ER01-1698-003]

Take notice that on June 29, 2001, Southern Company Services, Inc. (SCS), acting on behalf of Alabama Power Company, Georgia Power Company, Gulf Power Company, Mississippi Power Company, and Savannah Electric and Power Company (Savannah Electric) (collectively referred to as Southern Company), filed their compliance filing to the Commission's Order in Southern Company Services, Inc., 95 FERC ¶ 61,307. In that order, the Commission accepted for filing an unexecuted Interconnection Agreement between Savannah Electric and Effingham County Power LLC. In addition, the Commission also ordered that Southern Company amend its Interconnection Procedure to make certain revisions to the scope of Interconnection Studies that it performs.

Comment date: July 20, 2001, in accordance with Standard Paragraph E at the end of this notice.

21. Florida Power Corporation

[Docket No. ER01-2466-000]

Take notice that on June 29, 2001, Florida Power Corporation (FPC) filed an executed Transmission Service System Impact Study Agreement (Agreement) with Reliant Energy Services, Inc. (Reliant) under FPC's open access transmission tariff, FERC Electric Tariff, Second Revised Volume No. 6. FPC files this Agreement in conjunction with the joint transmission system impact study process that FPC, Florida Power & Light Company and Tampa Electric Company have agreed to undertake to handle the pending transmission service requests that impact these three utility systems. FPC requests waiver of the Commission's notice of filing requirements to permit this Agreement to become effective on May 31, 2001.

A copy of the filing was served on Reliant.

Comment date: July 20, 2001, in accordance with Standard Paragraph E at the end of this notice.

22. New York State Electric & Gas Corporation

[Docket No. ER01-2470-000]

Take notice that on June 29, 2001 New York State Electric & Gas Corporation (NYSEG) tendered for filing pursuant to Section 205 of the Federal Power Act and Section 35.13 of the Federal Energy Regulatory Commission's (FERC or Commission) Regulations, an amendment to Rate Schedule 200 filed with FERC corresponding to a Facilities Agreement with the New York Power Authority (NYPA). The proposed amendment would increase revenues by $2,480.37 for the period from September 1, 2001 through August 31, 2002. Copies of the filing were served upon the New York Power Authority and the Public Service Commission of the State of New York.

NYSEG requests an effective date of September 1, 2001.

Comment date: July 20, 2001, in accordance with Standard Paragraph E at the end of this notice.

23. Florida Power Corporation

[Docket No. ER01-2465-000]

Take notice that on June 29, 2001, Florida Power Corporation (FPC) filed an executed Transmission Service System Impact Study Agreement (Agreement) with NRG under FPC's open access transmission tariff, FERC Electric Tariff, Second Revised Volume No. 6. FPC files this Agreement in conjunction with the joint transmission system impact study process that FPC, Florida Power & Light Company and Tampa Electric Company have agreed to undertake to handle the pending transmission service requests that impact these three utility systems. FPC requests waiver of the Commission's notice of filing requirements to permit this Agreement to become effective on May 31, 2001.

A copy of the filing was served on NRG.

Comment date: July 20, 2001, in accordance with Standard Paragraph E at the end of this notice.

24. PacifiCorp

[Docket No. ER01-2292-000]

Take notice that PacifiCorp on June 29, 2001, tendered for filing in accordance with 18 CFR 35 of the Commission's Rules and Regulations, a request to defer actions on PacifiCorp's original filing in this proceeding until further notice. Copies of this filing were supplied to the Washington Utilities and Transportation Commission and the Public Utility Commission of Oregon.

Comment date: July, 2001, in accordance with Standard Paragraph E at the end of this notice.

25. Xcel Energy Services, Inc.

[Docket No. ER01-1311-001]

Take notice that on June 29, 2001, Xcel Energy Services, Inc., on behalf of Public Service Company of Colorado (PSCo), submitted for filing an Amended Power Sales Agreement between PSCo and Cheyenne Light, Fuel and Power Company.

Comment date: July 20, 2001, in accordance with Standard Paragraph E at the end of this notice.

26. Idaho Power Company

[Docket No. ER01-1687-001]

Take notice that on June 29, 2001, Idaho Power Company tendered for filing, under its Market-Based Rates Tariff, Rate Schedule Designations as required by Order No. 614 pursuant to the Commission's Letter Order dated May 29, 2001 in the above-captioned docket.

Comment date: July 20, 2001, in accordance with Standard Paragraph E at the end of this notice.

27. Nevada Power Company

[Docket No. ER01-1589-002]

Take notice that on June 29, 2001, Nevada Power Company (Nevada Power) tendered for filing a revision to the Regulation and Frequency Response Service provisions of Nevada Power's Electric Service Coordination Tariff in compliance with the Order issued in June 1, 2001 in this Docket No. ER01-1589-000. Copies of this filing have been served upon those person on the Commission's official service list compiled in Docket No. ER01-1589-000.

Comment date: July 20, 2001, in accordance with Standard Paragraph E at the end of this notice.

28. Duke Energy Corporation

[Docket No. ER01-2469-000]

Take notice that on June 29, 2001, Duke Energy Corporation filed an amended, unexecuted Network Integration Transmission Service Agreement between Duke Power Co., Cinergy Services, Inc. and the Commissioners of Public Works of the City of Greenwood, South Carolina.

Comment date: July 20, 2001, in accordance with Standard Paragraph E at the end of this notice.

29. Allegheny Energy Service Corporation, on behalf of Allegheny Energy Supply Company, LLC (AE Supply)

[Docket No. ER01-2468-000]

Take notice that on June 29, 2001, Allegheny Energy Service Corporation on behalf of Allegheny Energy Supply Company, LLC (AE Supply), filed Electric Rate Schedule FERC No. 10 (Rate Schedule) with Monongahela Power Company dba Allegheny Power in order for Allegheny Power to supply default service to its Ohio customers. AE Supply has requested a waiver of notice to make the Rate Schedule effective on June 1, 2001.

Comment date: July 20, 2001, in accordance with Standard Paragraph E at the end of this notice.

30. Southwest Power Pool, Inc.

[Docket No. ER01-2471-000]

Take notice that on June 29, 2001, Southwest Power Pool, Inc. (SPP) submitted for filing eight executed service agreements for Firm Point-to-Point Transmission Service with Aquila Energy Marketing Corporation (Transmission Customer). SPP seeks an effective date of June 1, 2001 for each of these service agreements.

A copy of this filing was served on the Transmission Customer.

Comment date: July 20, 2001, in accordance with Standard Paragraph E at the end of this notice.

Standard Paragraph

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of this filing are on file with the Commission and are available for public inspection. This filing may also be viewed on the web at http://www.ferc.gov using the “RIMS” link, select “Docket #” and follow the instructions (call 202-208-2222 for assistance). Comments, protests and interventions may be filed electronically via the Internet in lieu of paper. See, 18 CFR 385.2001(a)(1)(iii) and the instructions on the Commission's web site under the “e-Filing” link.

David P. Boergers,
Secretary.

[FR Doc. 01-17427 Filed 7-11-01; 8:45 am]

BILLING CODE 6717-01-P